DEPARTMENT OF HOMELAND SECURITY

Coast Guard

[Docket No. USCG-2017-1006]

List of Vessels Prohibited From Entering or Operating Within the Navigable Waters of the United States, Pursuant to the Ports and Waterways Safety Act, as Amended by the Countering America's Adversaries Through Sanctions Act

AGENCY: Coast Guard, DHS.

ACTION: Notice of availability.

SUMMARY: This document announces the availability of a list of vessels that are generally prohibited from entering the navigable waters of the United States or transferring cargo in the United States. The list, which is developed by the Department of State, will be publicly available on the Coast Guard National Vessel Movement Center (NVMC) website at www.nvmc.uscg.gov/CAATSA.aspx and will be updated periodically on the website. The Ports and Waterways Safety Act, as amended by the Countering America's Adversaries Through Sanctions Act (CAATSA) generally prohibits the entry of vessels on this list, and generally prohibits the entry of vessels registered to a Flag State that retains in its registry a vessel identified on this list 180 days after the most recent publication. The CAATSA amendment also generally prohibits such vessels from transferring cargo in any port or place under the jurisdiction of the United States.

DATES: The list of vessels will be available on February 2, 2018, and will be updated periodically thereafter.

ADDRESSES: The list of prohibited vessels will be available online at www.nvmc.uscg.gov/CAATSA.aspx. This notice of availability can be viewed online, under docket USCG-2017-1006, using the Federal eRulemaking Portal at http://www.regulations.gov.

If you have questions about this notice, call or email the Coast Guard's Headquarters Foreign & Offshore Vessel Compliance Division, 202-372-1232, portstatecontrol@uscg.mil.

SUPPLEMENTARY INFORMATION: On August 2, 2017, the President signed into law the Countering America's Adversaries Through Sanctions Act (CAATSA).¹ The law amends the North Korea Sanctions and Policy Enhancement Act of 2016 ² and the Ports and Waterways Safety Act (PWSA).³ Section 315 of CAATSA adds § 16 to the Ports and Waterways Safety Act. This new section requires the Secretary of the Department in which the Coast Guard is operating, with the concurrence of the Secretary of State, to maintain timely information on the registrations of all foreign vessels over 300 gross tons that are known to be any of the following:

¹ Public Law 115-44, August 2, 2017, 131 Stat 886.

² Public Law 114-122, February 18, 2016, 130 Stat 93.

³ 33 U.S.C. 1221 et seq.

(1) Owned and operated by or on behalf of the Government of North Korea or a North Korean person.

(2) Owned or operated by or on behalf of any country identified by the President as a country that has not complied with the applicable United Nations Security Council resolutions (as such term is defined in 22 U.S.C. 9202).

(3) Owned or operated by or on behalf of any country in which a sea port is located, the operator of which the President has identified in the most recent report submitted under 22 U.S.C. 9225(a)(1)(A). As revised by section 314 of CAATSA, § 9225(a)(1) states that the President shall submit a report to Congress of countries and ports that knowingly do any of the following: (a) Significantly fail to implement or enforce regulations to inspect ships, aircraft, cargo, or conveyances in transit to or from North Korea, as required by applicable United Nations Security Council resolutions; (b) facilitate the transfer, transshipment, or conveyance of significant types or quantities of cargo, vessels, or aircraft owned or controlled by persons designated under applicable United Nations Security Council resolutions; or (c) facilitate any of the activities described in section 104(a) of the North Korea Sanctions and Policy Enhancement Act of 2016.

Not later than 180 days after the date of the enactment of CAATSA, and periodically thereafter, the Coast Guard is required to publish in the Federal Register a list of the vessels described above. The list will be publicly available on the NVMC website at www.nvmc.uscg.gov/CAATSA.aspx, beginning on February 2, 2018, and the Coast Guard will periodically publish a notice of availability in the Federal Register announcing updates.

Upon receiving an advance notice of arrival under 33 U.S.C. 1223(a)(5) from a vessel on the list, the Coast Guard will notify the vessel master that the vessel may not enter or operate in the navigable waters of the United States, or transfer cargo in any port or place under the jurisdiction of the United States, unless otherwise allowed by law. The Ports and Waterways Safety Act, as amended by CAATSA, provides for limited entry in certain circumstances, such as a specific determination from the U.S. Secretary of State, and does not restrict the right of innocent passage or the right of transit passage as recognized under international law.

This notice is issued under authority of 5 U.S.C. 552(a), § 315 of Public Law 115-44, and DHS Delegation 0170.1(II)(70).

Dated: February 2, 2018.
Jennifer F. Williams,
Captain, U.S. Coast Guard, Director of Inspections and Compliance.

[FR Doc. 2018-02536 Filed 2-7-18; 8:45 am]

BILLING CODE 9110-04-P